DEPARTMENT OF THE INTERIOR

Bureau of Land Management

Notice of Meeting

AGENCY: Lower Snake River District, Bureau of Land Management, Interior.

ACTION: Meeting Notice.

SUMMARY: The Lower Snake River District Resource Advisory Council will meet in Boise. Potential agenda topics include Payette River Rec Fee Demo Project, Approval of Minutes, Charter Review, and Council Work Plan.

DATES: May 2, 2001. The meeting will begin at 10 a.m. Public comment periods will be held after each topic. The meeting is expected to adjourn at 1 p.m.

ADDRESSES: The meeting will be held at the Lower Snake River District Office, located at 3948 Development Avenue, Boise, Idaho.

FOR FURTHER INFORMATION CONTACT: Mary Jones, Lower Snake River District Office (208-384-3305).

Date: April 3, 2001.
Katherine Kitchell,
District Manager.

[FR Doc. 01-10050 Filed 4-23-01; 8:45 am]

BILLING CODE 4310-22-P